DEPARTMENT OF COMMERCE

International Trade Administration

[A-823-815]

Amendment to the Agreement Suspending the Antidumping Duty Investigation on Certain Oil Country Tubular Goods From Ukraine

AGENCY: Enforcement and Compliance, International Trade Administration, Department of Commerce.

DATES: Applicable June 28, 2018.

SUMMARY: The Department of Commerce (Commerce) and a representative of the Ukrainian signatory producer/exporter of certain oil country tubular goods (OCTG) from Ukraine, Interpipe, have signed an amendment to the Agreement Suspending the Antidumping Duty Investigation on Certain Oil Country Tubular Goods from Ukraine (Agreement). The amendment to the Agreement extends the Agreement for one additional year, specifying that the Agreement shall terminate five years after the applicable date of the original agreement, on July 10, 2019.

FOR FURTHER INFORMATION CONTACT: Sally Craig Gannon or David Cordell at (202) 482-0162 or (202) 482-0408, respectively; Bilateral Agreements Unit, Office of Policy, Enforcement and Compliance, International Trade Administration, U.S. Department of Commerce, 1401 Constitution Avenue NW, Washington, DC, 20230.

SUPPLEMENTARY INFORMATION:

As signed on July 10, 2014, Section H of the Agreement stated that, “this Agreement shall terminate three years after the effective date of this Agreement, on July 10, 2017.” ¹ The Agreement was extended by one year, to July 10, 2018.² On November 20, 2017, Ukrainian signatory producer/exporter Interpipe Europe S.A.; Interpipe Ukraine LLC; PJSC Interpipe Niznedneprovsky Tube Rolling Plant; LLC Interpipe Niko Tube; and North American Interpipe, Inc. (collectively, Interpipe) requested a five-year extension of the Agreement.³ From January 2018 through June 2018, Commerce received comments on Interpipe's request.⁴ Commerce has considered the comments submitted by parties and has determined to grant Interpipe's request, in part, and to extend the Agreement by an additional year, based on the unique facts and circumstances in Ukraine which have affected Interpipe's operations since the inception of the Agreement and are still ongoing.⁵ Commerce and Interpipe, therefore, signed an amendment to the Agreement on June 28, 2018, extending the Agreement by an additional one-year period such that the Agreement will terminate, and Commerce will issue an antidumping duty order, on July 10, 2019.

¹ See Suspension of Antidumping Investigation: Certain Oil Country Tubular Goods from Ukraine, 79 FR 41959 (July 18, 2014).

² See Amendment to the Agreement Suspending the Antidumping Duty Investigation on Certain Oil Country Tubular Goods From Ukraine, 82 FR 32681 (July 17, 2017).

³ See Letter from Interpipe entitled “Antidumping Duty Suspension Agreement on Certain Oil Country Tubular Goods from Ukraine: Request to Extend the Suspension Agreement” (November 20, 2017) (Interpipe's Request).

⁴ See Memorandum to P. Lee Smith, Deputy Assistant Secretary for Policy and Negotiations, from Carole Showers, Executive Director, Office of Policy, entitled “Decision Memorandum on Whether to Extend the Agreement Suspending the Antidumping Duty Investigation on Certain Oil Country Tubular Goods from Ukraine” (June 28, 2018) (Decision Memorandum) at the summary section for a listing of the comments.

⁵ See Interpipe's Request at 2; see also Interpipe's February 27, 2018 and June 11, 2018 Letters and the Decision Memorandum.

The terms and conditions of the June 28, 2018 amendment to the Agreement are set forth in the Amendment to the Agreement, which is attached in Annex 1 to this notice.

We are publishing this notice consistent with section 734(f)(1)(A) of the Tariff Act of 1930, as amended, and 19 CFR 351.208(g)(2).

Dated: June 28, 2018.
P. Lee Smith,
Deputy Assistant Secretary for Policy and Negotiations Enforcement & Compliance.

Annex 1—Amendment to the Agreement Suspending the Antidumping Duty Investigation on Certain Oil Country Tubular Goods (OCTG) From Ukraine

Amendment to the Agreement Suspending the Antidumping Duty Investigation on Certain Oil Country Tubular Goods From Ukraine

The United States Department of Commerce (Commerce) and the producers/exporters of Certain Oil Country Tubular Goods from Ukraine that are signatories to the Agreement Suspending the Antidumping Duty Investigation on Certain Oil Country Tubular Goods from Ukraine (Agreement), signed on July 10, 2014, and amended on July 10, 2017, hereby amend Section H of the Agreement, as follows:

The First Sentence of Section H is Amended as Follows (Changes in Italics):

(H) Termination or Withdrawal

This Agreement shall terminate five years after the effective date of this Agreement, on July 10, 2019.

All other provisions of the Agreement, as amended, continue with full force.

Signed on June 28, 2018, in Washington, DC by

P. Lee Smith, Deputy Assistant Secretary for Policy and Negotiations Enforcement & Compliance

Deen Kaplan, Counsel for Interpipe Europe S.A.; Interpipe Ukraine LLC; PJSC Interpipe Niznedneprovsky Tube Rolling Plant; LLC Interpipe Niko Tube; North American Interpipe, Inc.

[FR Doc. 2018-14427 Filed 7-3-18; 8:45 am]

BILLING CODE 3510-DS-P